DEPARTMENT OF THE INTERIOR

Bureau of Land Management

[LLUTY01000-L12320000.EB0000]

Notice of Intent to Collect Fees on Public Land in Grand County, Utah

AGENCY: Bureau of Land Management, Interior.

ACTION: Notice of Intent.

SUMMARY: Pursuant to applicable provisions of the Federal Lands Recreation Enhancement Act (REA), the Moab Field Office of the Bureau of Land Management (BLM) is proposing to begin collecting fees for overnight camping within six developed campgrounds.

DATES: Effective 6 months after the publication of this notice, the BLM-Utah Moab Field Office would initiate fee collection at the camping areas unless BLM publishes a Federal Register notice to the contrary.

FOR FURTHER INFORMATION CONTACT: J. Rockford Smith, Recreation Division Chief, Moab Field Office, Bureau of Land Management, 82 East Dogwood, Moab, UT 84532, (435) 259-2100. Persons who use a telecommunications device for the deaf (TDD) may call the Federal Information Relay Service (FIRS) at 1-800-877-8339 to leave a message or question for the above individual. The FIRS is available 24 hours a day, seven days a week. Replies are provided during normal business hours.

SUPPLEMENTARY INFORMATION: The Utah Resource Advisory Council (RAC), functioning as a Recreation Resource Advisory Committee (RRAC), will review the proposal to charge fees at the sites mentioned below. Future adjustments in the fee amount will be made in accordance with the Moab Field Office's Business Plan for BLM Moab Campgrounds (Amended 2014) covering the sites. Future fee adjustments will only be made after consideration of comments received on a publicly reviewed business plan amendment and after consultation with the Utah Recreation Resource Advisory Committee and other appropriate advance public notice.

The BLM is proposing to begin collecting fees for overnight camping within the following six developed campgrounds:

Salt Lake Meridian

Swasey's Rapid

T. 20 S., R. 16 E.,

Sec. 3, lots 2 and 3.

Fish Ford

T. 22 S., R. 24 E.,

Sec. 3, lot 2.

Cowskin

T. 23 S., R. 24 E.,

Sec. 21, SE1/4SE1/4.

Bitter Creek

T. 19 S., R. 25 E.,

Sec. 14, SE1/4NE1/4.

Westwater

T. 20S., R. 25 E.,

Sec. 12, tract 37.

Hideout

T. 24 S., R. 25 E.,

Sec. 29, SE1/4NW1/4.

These proposed fee sites are located in Grand County, Utah. Under Section 6802(g)(2) of the REA, the campgrounds listed above qualify as a site wherein visitors can be charged an “Expanded Amenity Recreation Fee.”

Visitors wishing to use the expanded amenities the BLM has developed at Westwater, Bitter Creek, Fish Ford, Cowskin, Hideout and Swasey's Rapid campgrounds would purchase a Recreation Use Permit as described at 43 CFR Part 2930. Specific visitor fees will be identified and posted at the developed campgrounds. Fees must be paid at the self-service pay station located at the developed campgrounds upon occupying the site. Dependent upon need, reservable group camp sites may be developed, and at that time advanced reservation may be made through the reservations office of the Moab Field Office. People holding the America The Beautiful—The National Parks and Federal Recreational Lands—Interagency Senior Pass, or an Interagency Access Pass would be entitled to a 50 percent discount on all expanded amenity fees except those associated with group reservations. Fees charged for use of the group sites would include a non-refundable site reservation fee and a per person use fee.

The Westwater and Fish Ford developed campgrounds were constructed in the middle 1980s and have been in use for more than two decades. Over time, the use has increased and the BLM has added amenities for resource protection and visitor enjoyment. Westwater and Fish Ford are located within the Two Rivers Special Recreation Management Area (SRMA). Westwater campground offers a public water system, four toilets, two changing rooms, seven individual sites (with 15 more under construction), an access road, regular patrols, fire rings, tent spaces, and picnic tables. Fish Ford campground offers one toilet, ten individual sites, an access road, regular patrols, fire rings, tent spaces, and picnic tables.

Bitter Creek campground is located along the Kokopelli's Trail within the Utah Rims SRMA and offers one toilet, 10 individual sites, an access road, regular patrols, fire rings, tent spaces, and picnic tables.

Cowskin campground is located within the Colorado Riverway SRMA and offers one toilet, 10 individual sites, an access road, regular patrols, fire rings, tent spaces, and picnic tables.

Hideout campground is located along the Kokopelli's Trail within the Extensive Recreation Management Area. It offers five individual sites, an access road, regular patrols, fire rings, tent spaces, and picnic tables.

Swasey's Rapid campground is located along the Green River just upstream of the boat ramp and parking area. It is located within the Lower Gray Canyon SRMA. It offers one toilet, 15 individual sites, an access road, regular patrols, fire rings, tent spaces, and picnic tables.

The BLM is committed to provide, and receive fair value for, the use of developed recreation facilities and services in a manner that meets public use demands, provides quality experiences and protects important resources. The BLM's policy is to collect fees at all specialized recreation sites, or where the BLM provides facilities, equipment or services at Federal expense, in connection with outdoor use as authorized by the REA. In an effort to meet increasing demands for services and maintenance of developed facilities, the BLM would implement a fee program for the campgrounds. The BLM's mission for the campgrounds is to ensure that funding is available to maintain facilities and recreational opportunities, to provide for law enforcement presence, to develop additional services, and to protect resources. This mission entails communication with those who will be most directly affected by the campgrounds, for example, recreationists, other recreation providers, partners, neighbors, and those who will have a stake in solving concerns that may arise throughout the life of the camping areas, including elected officials, and other agencies.

Development, improvement, and fee collection at these six sites are consistent with the 2008 Moab Resource Management Plan and were analyzed in the Environmental Impact Statement accompanying the plan (EIS UT-060-2007-04). Camping and group use fees would be consistent with other established fee sites in the area including other BLM-administered sites in the area and those managed by the United States Forest Service, United States National Park Service, and Utah State Parks and Recreation. Future adjustments in the fee amount will be made following the Moab Field Office's recreation fee business plan covering the sites, in consultation with the Utah RRAC and other public notice prior to a fee adjustment.

In December 2004, the REA was signed into law. The REA provides authority, for 10 years, for the Secretaries of the Interior and Agriculture to establish, modify, charge, and collect recreation fees for use of some Federal recreation lands and waters, and contains specific provisions addressing public involvement in the establishment of recreation fees, including a requirement that RRACs or Councils have the opportunity to make recommendations regarding establishment of such fees. REA also directed the Secretaries of the Interior and Agriculture to publish advance notice in the Federal Register whenever new recreation fee areas are established under their respective jurisdictions. In accordance with the BLM recreation fee program policy, the Moab Field Office's draft Amended Business Plan for the BLM Moab Campgrounds (2014) explains the proposal to collect fees at the six campgrounds, the fee collection process and how the fees will be used at the six sites. The BLM provided the public with an opportunity to comment on the draft Amended Business Plan from November 18 through December 20, 2013. BLM will notify and involve the public at each stage of the planning process, including the proposal to collect fees. The Utah RRAC will review the fee proposals at its next meeting, following REA guidelines. Fee amounts will be posted on-site, on the Moab BLM Web site and at the Moab Field Office. Copies of the business plan will be available at the Moab Field Office and the BLM Utah State Office.

Authority: 16 U.S.C. 6803(b).

Jenna Whitlock,
Associate State Director.

[FR Doc. 2014-03392 Filed 2-14-14; 8:45 am]

BILLING CODE 4310-DQ-P